DEPARTMENT OF THE INTERIOR

National Park Service

National Register of Historic Places; Notification of Pending Nominations and Related Actions 2280-665

Nominations for the following properties being considered for listing or related actions in the National Register were received by the National Park Service before October 23, 2010. Pursuant to section 60.13 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service,1201 Eye St., NW., 8th floor, Washington DC 20005; or by fax, 202-371-6447. Written or faxed comments should be submitted by December 7, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

FLORIDA

Alachua County

Island Grove Masonic Lodge No. 125, 20114 SE 219 Ave., Island Grove, 10000984

GEORGIA

Fulton County

First Methodist Episcopal Church, South, 360 Peachtree St., NW, Atlanta, 10001000

GUAM

Guam County

Baza Outdoor Oven, (Guam's Outdoor Ovens MPS), Beatrice Baza Rd, Yona, 10000972

Chaco Outdoor Oven, (Guam's Outdoor Ovens MPS), Chalan Josen Milagro St., Agat, 10000967

Cruz Outdoor Oven, (Guam's Outdoor Ovens MPS), Route 16, Barrigada, 10000966

Flores Outdoor Oven, (Guam's Outdoor Ovens MPS), Matcella Dr., Agana Heights, 10000965

Jinaspan Outdoor Oven, (Guam's Outdoor Ovens MPS), Beach Rd., Andersen AFB, Yigo, 10000968

Paulino Outdoor Oven, (Guam's Outdoor Ovens MPS), Afgayan Bay, Bear Rock Ln., Inarajan, 10000971

Quan Outdoor Oven, (Guam's Outdoor Ovens MPS), J.C. Santos St., Piti, 10000970

Won Pat Outdoor Oven, (Guam's Outdoor Ovens MPS), Between 114 and 126 Mansanita Ct., Sinajana, 10000969

ILLINOIS

Champaign County

Mattis, George and Elsie, House, 900 W Park Ave., Champaign, 10000993

Lawrence County

Lawrence County Courthouse, 1100 State St., Lawrenceville, 10000992

LOUISIANA

East Baton Rouge Parish

Lincoln Theater, 1305 Myrtle Walk, East Baton Rouge, 10000980

Orleans Parish

Algiers Point Historic District Boundary Increase, Roughly bounded by Slidell, Brooklyn, Atlantic, Newton, and Homer Sts., New Orleans, 1000097

Lincoln Parish

Grambling State University Historic District, Founders Ave., at College Ave., Grambling, 100009839

Winn Parish

Gum Springs Recreation Area, 12312 US HWY 84 W, Winnfield, 10000986

MICHIGAN

Wayne County

Kellog Park Historic District Boundary Increase, Roughly bounded by Church and Main St., and including Veteran's Park, Plymouth, 10000973

MISSOURI

Jackson County

Squibb, E.R. and Sons, Building, 2500 W Pennyway, Kansas City, 10000985

NEW YORK

Allegany County

Ceres School, School St., Ceres, 10000991

Erie County

Kensington Gardens Apartment Complex, 1, 2, 3 W Cleveland Dr., Buffalo, 10000989

Zink Block, The, 346 Connecticut St., Buffalo, 10000987

St. Lawrence County

Sunday Rock, NY 56, South Colton, 10000990

Suffolk County

Edwards House, The, 39 Edwards St., Sayville, 10000988

NORTH DAKOTA

Burleigh County

Depression Era Work Relief Construction Features at Menoken State Historic Site, (Federal Relief Construction in North Dakota, 1931-1943, MPS), 171 St. and 32 Ave., NE; 1.7 mi N of Menoken, Bismarck vicinity, 10000998

Divide County

Alkabo School, North end of Main St., Divide, 10000997

Kidder County

Crystal Springs Fountain, (Federal Relief Construction in North Dakota, 1931-1943, MPS), 1 mi NE from Crystal Springs on old US HWY 10, Crystal Springs, 10000999

OHIO

Summit County

Brookdale Farm, (Historic Bath Township, 1810-1959, MPS), 1148 N Cleveland—Massillon Rd., Akron, 10000975

Ghent Historic District, (Historic Bath Township, 1810-1959, MPS), W side of Wye Rd., between Granger and Yellow Creek Rds., Ghent, 10000974

Lambert, Jeremiah, House and Barn, (Historic Bath Township, 1810-1959, MPS), 2138 Cleveland—Massillon Rd, Ghent, 10000977

Voris, Peter Jr., Residence, (Historic Bath Township, 1810-1959, MPS), 3622 Ira Rd., Bath Township, 10000976

RHODE ISLAND

Providence County

Belknap School, 509 Greenville Ave., Johnston, 10000978

TEXAS

Bee County

Lott—Canada School, (Rosenwald School Building Program in Texas MPS), 900 W Corpus Christi St., Beeville, 10000981

Potter County

Triangle Motel, (Route 66 in Texas MPS), 7804, 7808, 7954, and 8024 E Amarillo Blvd., Amarillo, 10000982

WASHINGTON

King County

University Heights School, 50301 University Way NE, Seattle, 10000995

Pierce County

Tacoma Ice Company's Cold Storage Plant, 2602 S Holgate St., Tacoma, 10000994

Whitman County

Ferguson, Florence, House, 504 N Mill St., Colfax, 10000996

[FR Doc. 2010-29285 Filed 11-19-10; 8:45 am]

BILLING CODE 4312-51-P